DEPARTMENT OF THE INTERIOR

Bureau of Land Management

[LLMTL060-L16100000-DP0000]

Notice of Availability of the Draft Lewistown Resource Management Plan Revision and Associated Environmental Impact Statement, Montana

AGENCY: Bureau of Land Management, Interior.

ACTION: Notice of availability.

SUMMARY: In accordance with the National Environmental Policy Act of 1969 (NEPA), as amended, and the Federal Land Policy and Management Act of 1976 (FLPMA), as amended, the Bureau of Land Management (BLM) Lewistown and Butte Field Offices have prepared a Draft Resource Management Plan (RMP) with an associated Draft Environmental Impact Statement (EIS) for BLM public lands and resources managed by the Lewistown Field Office and a portion of the Butte Field Office in northern Lewis and Clark County, Montana, and by this notice are announcing the opening of the comment period.

DATES: To ensure that comments will be considered, the BLM must receive written comments on the Draft RMP/Draft EIS within 90 days following the date the Environmental Protection Agency publishes its Notice of Availability of the Draft RMP/Draft EIS in the Federal Register. The BLM will announce future meetings or hearings and any other public participation activities at least 15 days in advance through public notices, media releases, and/or mailings.

ADDRESSES: You may submit comments related to the Lewistown Draft RMP/Draft EIS by any of the following methods:

• Website: https://bit.ly/2lUdsb2

• Mail: Lewistown Field Office, Attn: Lewistown RMP, 920 NE Main Street, Lewistown, MT 59457

Copies of the Lewistown Draft RMP/Draft EIS are available in the Lewistown Field Office at the above address, or may be viewed at: https://bit.ly/2lUdsb2.

FOR FURTHER INFORMATION CONTACT: Dan Brunkhorst, RMP Project Manager, Lewistown Field Office, at (406) 538-1981, and at the above mailing address or website. Persons who use a telecommunications device for the deaf (TDD) may call the Federal Relay Service (FRS) at 1-800-877-8339 to contact Mr. Brunkhorst during normal business hours. The FRS is available 24 hours a day, 7 days a week, to leave a message or question. You will receive a reply during normal business hours.

SUPPLEMENTARY INFORMATION: The Lewistown Draft RMP/Draft EIS covers approximately 651,200 acres of BLM-managed public lands and 1,196,800 acres of Federal mineral estate in central Montana in Cascade, Fergus, Judith Basin, Meagher, Petroleum, Pondera, Teton, Chouteau, and Lewis and Clark counties. These lands and minerals are managed by two BLM offices located in Lewistown and Butte, Montana. The RMP will fulfill the needs and obligations set forth by NEPA, FLPMA, and BLM management policies. The RMP will reflect the changing needs of the planning area over the next several decades, and will replace the current Headwaters and Judith RMPs, as amended, that were developed in 1984 and 1994, respectively.

The planning effort is needed to identify goals, objectives, and management actions for the BLM-managed public lands. The BLM used public scoping comments to help identify planning issues that directed the formulation of alternatives and framed the scope of analysis in the Draft RMP/Draft EIS. Resource issues identified included air quality, soil and water resources, vegetation, geology, cave and karst features, fish and wildlife, special status species, wildland fire management, cultural and paleontological resources, wilderness characteristics, and visual resource values. The plan also considers resource uses including livestock grazing; delineation of lands open, closed, or subject to special stipulations or mitigation measures for minerals and energy development; forest, woodland, and special forest products; recreation, visitor services, access, and travel management designations; and lands and realty actions including rights-of-way (ROWs), withdrawals, and land tenure adjustments. Special designations, social and economic conditions, tribal interests, and public safety are also addressed.

The Draft RMP/Draft EIS evaluates four alternatives in detail.

Alternative A is the No Action Alternative, which is a continuation of current management direction in the existing Judith and Headwaters RMPs.

Alternative B emphasizes managing habitats for priority plant, wildlife, and fish species while providing modest development of resource uses. Alternative B also emphasizes hunting, fishing, and other recreation through Backcountry Conservation Areas and management of lands with wilderness characteristics.

Alternative C is the agency preferred alternative. Alternative C emphasizes resource uses on BLM-administered lands and mineral estate targeting social and economic outcomes while protecting land health. Alternative C employs less special management designations for resource use objectives.

Alternative D emphasizes resource uses and a variety of management prescriptions (e.g., recreation management areas, Areas of Critical Environmental Concern (ACECs), Visual Resource Management) to address the use and conservation of natural and cultural resources, while sustaining and enhancing forest and range health across the landscape.

Pursuant to 43 CFR 1610.7-2(b), this notice announces a concurrent public comment period for potential ACECs. The proposed ACECs include:

• Acid Shale-Pine Forest: (2,700 acres) Alternatives A, B, and D;

• Blacktail Creek: (1,200 acres) Alternative B;

• Blind Horse: (4,900 acres) Alternatives B and D;

• Chute Mountain: (3,200 acres) Alternatives B and D;

• Collar Gulch: (1,500 acres) Alternative A; (2,700 acres) Alternatives B and D;

• Deep Creek/Battle Creek: (3,100 acres) Alternatives B and D;

• Ear Mountain: (1,800 acres) Alternatives B and D;

• Judith Mountains Scenic: (3,800 acres) Alternative A; (4,800 acres) Alternative B;

• Square Butte: (1,900 acres) Alternative A; (2,700 acres) Alternatives B and D; and

• Sun River: (4,900 acres) Alternatives B and D.

The ACECs are proposed to protect biological, botanical, cultural, paleontological, geologic, and scenic values. If formally designated, the following management prescriptions could apply to potential ACECs, depending on proposed management prescriptions for each proposed ACEC: Avoid or exclude ROWs; close to, or constraints on, fluid leasable mineral development; close to non-energy solid leasable mineral leasing; close to mineral materials disposal; recommend withdrawal of locatable mineral development; close to saleable mineral development; manage for higher visual resource values; close or limit motorized and/or off-highway vehicle travel to designated routes; close to commercial timber harvest; close to casual collection of invertebrate and plant fossils; and pursue legal access through acquisition.

Before including your address, phone number, email address, or other personal identifying information in your comment, you should be aware that your entire comment—including your personal identifying information—may be made publicly available at any time. While you can ask us in your comment to withhold your personal identifying information from public review, we cannot guarantee that we will be able to do so.

(Authority: 40 CFR 1506.6 and 43 CFR 1610.2)

Donato J. Judice,
Acting State Director.

[FR Doc. 2019-10148 Filed 5-16-19; 8:45 am]

BILLING CODE 4310-DN-P.